Proclamation 10756 of May 10, 2024

National Women's Health Week, 2024

By the President of the United States of America

A Proclamation

Women comprise more than half our population, but women's health is understudied, and its research is vastly underfunded. Too many of our medications, treatments, and textbooks are instead based on men's needs. As a result, women spend more of their lives in poor health—too often having their symptoms dismissed, leaving medical appointments with more questions than answers, or waiting years to get the diagnosis and treatment they need. During National Women's Health Week, we commit to changing that by investing in women's health, closing the research gap, and getting every woman in this country access to the affordable, quality health care that she deserves.

Last year, the First Lady and I were proud to launch the first-ever White House Initiative on Women's Health Research, pioneering the next generation of medical breakthroughs and transforming the care that women receive. We jumpstarted this effort with an investment of $200 million to the National Institutes of Health specifically for cross-cutting research on women's health, and I called on the Congress to deliver $12 billion more to accelerate this work. These investments will spur much-needed research into conditions that affect women uniquely, like menopause and endometriosis, or that affect women differently or at higher rates, like heart disease and Alzheimer's. Further, I issued the most comprehensive set of executive actions ever to expand and improve research on women's health, ensuring that women's health gets integrated and prioritized across Federal agencies. These actions will galvanize new research on a wide range of topics and help prevent, diagnose, and treat women's health conditions once and for all. Meanwhile, the Advanced Research Projects Agency for Health is investing $100 million in its first-ever “Sprint for Women's Health” to radically accelerate the next generation of discoveries.

Early in the Administration, the First Lady and I re-ignited the Cancer Moonshot initiative to end cancer as we know it—building a future where the one in three women who will be diagnosed with cancer in their lifetimes have access to the best treatments and care. Screening is an essential tool for survival; my Administration has boosted funding for breast and cervical cancer early detection and other diagnostic services for low-income Americans and those who do not have adequate insurance so everyone can access life-saving preventive care. We are also funding new research into heart disease—the top killer of women in America—while enacting a national strategy to help everyone access healthier food and get more exercise.

Health care should be a right in America, not a privilege. As Vice President, I helped pass the Affordable Care Act, expanding coverage to millions of women and guaranteeing that no one can be denied health insurance due to a pre-existing condition or pregnancy. It also ensures that important preventative services, like Pap smears and mammograms, are covered. As President, I am not only protecting the Affordable Care Act—I am strengthening it, saving millions of working families an average of $800 per year on their health insurance premiums. We are also cracking down on junk insurance so that people are not scammed into low-quality coverage. We finally secured Medicare the ability to negotiate lower prescription drug prices. We have slashed the cost of insulin for seniors on Medicare to just $35, down from as high as $400. Starting next year, we are capping out-of-pocket prescription drug costs at $2,000 per year for 30 million women on Medicare, even for drugs that can cost many times that amount.

Even as we have made progress in expanding access to care and lowering health care costs, the threat to women's reproductive health is greater today than at any time in generations. In the wake of the Supreme Court overturning Roe v. Wade, millions of women live in States with dangerous abortion bans that put women's health and lives at risk, force them to travel out of State for care, and threaten doctors with jail time. We are seeing threats to a broad range of reproductive health care, from contraception to fertility services, undermining women's ability to make decisions about their own futures and families. These are the most personal and private health care decisions that a person can make and should be left to a woman and her doctor, not to politicians. I have signed three Executive Orders to protect access to reproductive health care and will continue to take action to defend reproductive freedom. I will continue to call on the Congress to send me a bill supporting the right to choose. I will sign it and restore Roe v. Wade as the Federal law of the land.

We have also taken steps to protect the health and lives of our Nation's mothers, and data shows that rates of maternal mortality are decreasing across the country. Thanks to Vice President Kamala Harris' efforts, 46 States now ensure access to Medicaid postpartum coverage for 12 months after childbirth. We will continue to work toward guaranteeing access to essential care before, during, and after childbirth so that we can finally end the unconscionable maternal mortality crisis that we have in this country today. To support new moms struggling with postpartum depression, anxiety, or a substance use disorder, my Administration has launched the National Maternal Mental Health Hotline so that mothers can get confidential help from a professional right away by calling 1-833-TLC-MAMA.

Meanwhile, we are supporting the healing and recovery of domestic and sexual violence survivors. I wrote the original Violence Against Women Act years ago; today, we are bringing its funding to record levels, supporting shelters and rape crisis centers, addressing the needs of LGBTQI+ people and other underserved groups, and broadening protections for survivors.

This Women's Health Week, I encourage women across America to make their health a priority, and I promise that we are making it a national priority as well. To realize our potential as a land of possibilities, we have to protect and support the health of every woman and girl in our Nation and build a health care system that puts women, their lives, and their lived experiences at its center.

NOW, THEREFORE, I, JOSEPH R. BIDEN JR., President of the United States of America, by virtue of the authority vested in me by the Constitution and the laws of the United States, do hereby proclaim May 12 through May 18, 2024, as National Women's Health Week. During this week, I encourage all Americans to join us in a collective effort to improve and support the health of women and girls and promote health equity for all. I encourage all women and girls to prioritize their health and catch up on any missed screenings, routine care, and vaccines.

IN WITNESS WHEREOF, I have hereunto set my hand this tenth day of May, in the year of our Lord two thousand twenty-four, and of the Independence of the United States of America the two hundred and forty-eighth.

[FR Doc. 2024-10765

Filed 5-14-24; 8:45 am]

Billing code 3395-F4-P